DEPARTMENT OF LABOR

Office of the Secretary

Combating Exploitive Child Labor Through Education in Central America (Costa Rica, El Salvador, Guatemala, Honduras, and Nicaragua) and the Dominican Republic; and Combating Exploitive Child Labor Through Education in Southern Africa (Botswana, Lesotho, Namibia, South Africa, and Swaziland)

May 6, 2004.

AGENCY: Bureau of International Labor Affairs, Department of Labor.

Announcement Type: New. Notice of Availability of Funds and Solicitation for Cooperative Agreement Applications.

Funding Opportunity Number: SGA 04-06.

Catalog of Federal Domestic Assistance (CFDA) Number: Not applicable.

Key Dates: Deadline for Submission of Application is June 7, 2004.

Executive Summary: The U.S. Department of Labor, Bureau of International Labor Affairs, will award up to U.S. $14.5 million through one or more cooperative agreements to an organization or organizations to improve access to quality education programs as a means to combat exploitive child labor in Central America and the Dominican Republic (up to $5.5 million) and Southern Africa (up to $9 million). The activities funded will complement and expand upon existing projects and programs to improve basic education in these countries, and, where applicable, provide access to basic education to children in areas of high incidence of exploitive child labor. Applications must be regional in approach and respond to the entire Statement of Work outlined in this Solicitation for Cooperative Agreement Applications. In Central America and the Dominican Republic, activities under this cooperative agreement will strengthen government and civil society's capacity to address the education needs of working children and those at risk of entering work. In Southern Africa, activities under this cooperative agreement will expand access and quality of basic education for working children and those at risk of entering work, particularly HIV/AIDS affected children.

I. Funding Opportunity Description

The U.S. Department of Labor (USDOL), Bureau of International Labor Affairs (ILAB), announces the availability of funds to be granted by cooperative agreement to one or more qualifying organizations for the purpose of expanding access to and quality of basic education and strengthening government and civil society's capacity to address the education needs of working children and those at risk of entering work in Central America (Costa Rica, El Salvador, Guatemala, Honduras, and Nicaragua) and the Dominican Republic, and Southern Africa (Botswana, Lesotho, Namibia, South Africa, and Swaziland). ILAB is authorized to award and administer this program by the Consolidated Appropriations Act, 2003, Pub.L. No 108-7, 117 Stat. 11 (2003). The cooperative agreement or cooperative agreements awarded under this initiative will be managed by ILAB's International Child Labor Program to assure achievement of the stated goals. Applicants are encouraged to be creative in proposing cost-effective interventions that will have a demonstrable impact in promoting school attendance in areas of those countries where children are engaged in or are most at risk of working in the worst forms of child labor.

A. Background and Program Scope

i. USDOL Support of Global Elimination of Exploitive Child Labor

The International Labor Organization (ILO) estimated that 211 million children ages 5 to 14 were working around the world in 2000. Full-time child workers are generally unable to attend school, and part-time child laborers balance economic survival with schooling from an early age, often to the detriment of their education. Since 1995, the U.S. Department of Labor has provided over U.S. $275 million in technical assistance funding to combat exploitive child labor in over 60 countries around the world.

Programs funded by USDOL range from targeted action programs in specific sectors to more comprehensive efforts that target the worst forms of child labor as defined by ILO Convention 182. From FY 2001 to FY 2004, the U.S. Congress has appropriated U.S. $148 million to USDOL for a Child Labor Education Initiative to fund programs aimed at increasing access to quality, basic education in areas with a high incidence of abusive and exploitive child labor. The cooperative agreement(s) awarded under this solicitation will be funded through this initiative. USDOL's Child Labor Education Initiative seeks to nurture the development, health, safety and enhanced future employability of children around the world by increasing access to basic education for working children and those at risk of entering work. Exploitive child labor elimination depends in part on improving access to, quality of, and relevance of education.

The Child Labor Education Initiative has four goals:

a. Raise awareness of the importance of education for all children and mobilize a wide array of actors to improve and expand education infrastructures;

b. Strengthen formal and transitional education systems that encourage working children and those at risk of working to attend school;

c. Strengthen national institutions and policies on education and child labor; and

d. Ensure the long-term sustainability of these efforts.

ii. Barriers to Education for Working Children, Country Background, and Focus of Solicitation

Throughout the world, there are complex causes of exploitive child labor as well as barriers to education for children engaged in or at risk of exploitive child labor. These include: poverty; education system barriers; infrastructure barriers; legal and policy barriers; resource gaps; institutional barriers; informational gaps; demographic characteristics of children and/or families; cultural and traditional practices; and weak labor markets.

Although these elements and characteristics tend to exist throughout the world in areas of high exploitive child labor, they manifest themselves in specific ways in each region/country of interest in this solicitation. In their response to the solicitation, applications must be regional in approach, i.e., applications must include all of the countries in the proposed region (either Central America and the Dominican Republic or Southern Africa), and promote regional activities and sharing of best practices and lessons learned to enhance and improve education and exploitive child labor policies and practices among project countries. The regional focus of the project should also emphasize policy and program approaches that, through the sharing of knowledge and lessons learned from other countries, augment an individual country's capacity to address the education barriers faced by working children, allowing more of them to attend and complete quality educational programs. In Central America and the Dominican Republic, this project will predominantly support policy mechanisms and build capacity to undertake educational reforms that enable working children to benefit from education programs. If an applicant proposes direct education service delivery to individual children in Central American and the Dominican Republic, all such interventions must be designed as demonstration projects with direct policy applications. In cases where direct education service delivery to individual children will be provided, applicants must demonstrate that the interventions are needed and support policy gaps.

In Central America and the Dominican Republic, activities under this cooperative agreement will strengthen government and civil society's capacity to address the education needs of working children and those at risk of entering work. In Southern Africa, activities under this cooperative agreement will expand access and quality of basic education for working children and those at risk of entering work, particularly as a consequence of the HIV/AIDS pandemic. Applicants should be able to identify the specific barriers to education and the education needs of specific children targeted in their project (e.g., children withdrawn from work, children at high risk of dropping out into the labor force, and/or children still working in a particular sector) and how capacity building and policy change can be used to address them. Short background information on education and exploitive child labor in each of the regions/countries of interest is provided below. For additional information on exploitive child labor in these regions/countries, applicants are referred to The Department of Labor's 2002 Findings on the Worst Forms of Child Labor available at http://www.dol.gov/ILAB/media/reports/iclp/tda2002/overview.htm or in hard copy from Lisa Harvey, U.S. Department of Labor, Procurement Services Center, telephone (202) 693-4570 (this is not a toll-free-number) or e-mail: harvey.lisa@dol.gov.

Barriers to Education for Working Children in Central America and the Dominican Republic, and Focus of This Solicitation for the Region

In 2000, the ILO's International Program on the Elimination of Child Labor (IPEC) estimated that 17.4 million children ages 5 to 14 were working throughout Latin America and the Caribbean. Recent estimates indicate that more than 2.3 million children ages 5 to 17 in Central America (Costa Rica, El Salvador, Guatemala, Honduras, and Nicaragua) and the Dominican Republic are economically active. Most of these children work in rural areas in agriculture, on small family plots as well as on coffee, melon, and other commercial farms. The remainder of these children work in the region's cities and urban areas. Children work in small businesses and industries, sell goods on the street, and wash cars. Some children engage in particularly hazardous activities such as prostitution and pornography. On average, about half of working children do not attend school. The remainder combine school and work, often coming to school without adequate food or sleep, or sufficient time to study and prepare homework. Such children complete fewer years of schooling than those who do not work, dropping out at a young age. By not attending school, or by attending for only short periods of time, working children do not gain many of the skills they need to obtain stable and more highly remunerated employment as adults, and therefore perpetuate the cycle of poverty.

In response to this dire situation, the governments and civil society of Central America and the Dominican Republic, with assistance from international organizations and other partners, have taken steps to reduce exploitive child labor and encourage school attendance. Every country in the region has ratified ILO Convention 138 on the Minimum Age for Employment and ILO Convention 182 on the Worst Forms of Child Labor. Each country is also a member of ILO/IPEC, and has established national committees of governmental and non-governmental representatives that have developed plans of action to address exploitive child labor. A number of projects supported by ILO/IPEC, UNICEF, and a host of other international organizations have been implemented that aim to remove children from exploitive child labor and enroll them in school. USDOL has funded a number of such efforts, which include country, sector, and regional projects to remove children from work, build capacity to combat exploitive child labor, raise awareness, strengthen legislation against exploitive child labor, and gather information about the problem.

In addition, a number of projects have been undertaken to promote access to quality basic education. Some of the education ministries in the region have developed scholarship programs, flexible schedules, and alternative curricula designed to enable all children to obtain a quality basic education. A number of local non-governmental organizations (NGOs), development agencies, and international organizations, such as UNICEF, and the U. S. Agency for International Development (USAID), have instituted programs to promote primary education. Although USAID's 2004-2008 plan for Central America does not specifically mention exploitive child labor, there is a role assigned to the creation of “healthier, better-educated people” through increased and improved basic education opportunities.

Despite these efforts to eliminate exploitive child labor and promote basic education, significant gaps have not been addressed, and continue to deprive working children of access to quality basic education. Although some barriers are more prominent in certain countries than others, in general across the region these needs include:

Lack of coordination of efforts to combat exploitive child labor with efforts to promote basic education. In many instances, links have not been made between the institutions and actors concerned with exploitive child labor and those concerned with education. Cross-agency communication is weak.

Ministries of Education often do not see exploitive child labor as an education issue. As a result of the lack of linkages mentioned above, most of the education ministries in the region have not integrated the issue of exploitive child labor into their education policies and programs, nor is the education of working children necessarily considered in the development of Education for All (EFA) or education fast-track strategies. Nonetheless, there are some examples in the region of ways in which ministries of education have become involved in the struggle against exploitive child labor. In Costa Rica, for example, a child labor office was recently established within the Ministry of Public Education.

Lack of community awareness of the dangers inherent in exploitive child labor. In many cases, communities in Central America and the Dominican Republic hold the belief that child work is formative and builds character, and are not aware of the fact that when work interferes with basic education, it tends to perpetuate, rather than alleviate, poverty. Community support for education has led to successful locally-managed education programs in several areas of El Salvador, Guatemala, and Honduras. Although the community managed school programs implemented in these countries may not be appropriate in all environments, they offer lessons about the importance of local interest in education.

Lack of information sharing on exploitive child labor and education. Despite significant advances in the quality of data on exploitive child labor and basic education in the region, there is only limited diffusion of the information and little capacity to interpret and effectively use the data.

Lack of collaboration between government and civil society. In cases where civil society has taken up the banner of exploitive child labor and/or universal education, there has been a lack of coordinated or joint efforts, not only within each country, but also throughout the region.

Lack of school attendance monitoring. At a very basic level, the systems to track whether children are attending school in most parts of Central America and the Dominican Republic are either weak or nonexistent. In other areas of the world, such tracking and related enforcement of compulsory attendance laws have created an important incentive for parents to send their children to school.

Lack of teacher training on exploitive child labor and on how to teach working children. In the Dominican Republic and the Central American countries, teachers lack the training and support needed to understand the issue of exploitive child labor and are unprepared for the challenges of teaching children who combine school and work or who have special educational needs.

Inadequate incentives for teachers and for rewarding good teacher performance. In the Dominican Republic and Central America, teacher strikes are frequently due, in large part, to low salaries and there is a lack of incentives to encourage high quality teacher performance.

Disagreement on Education Policy. To a greater extent in Guatemala, Honduras, and Nicaragua, and a lesser extent in Costa Rica, El Salvador, and the Dominican Republic, education reform has become an extremely contentious issue. While many agree that access to quality education in the region must be improved, teachers unions, businesses, communities, and governments are divided over the best method to achieve this goal.

Due to the number of existing efforts in Central America and the Dominican Republic, and the need to promote sustainability, applicants are encouraged to predominantly support policy mechanisms and build capacity to undertake educational reforms that enable working children to benefit from education programs. If an applicant proposes direct education service delivery to individual children in Central American and the Dominican Republic, all such interventions must be designed as demonstration projects with direct policy applications. In cases where direct education service delivery to individual children will be provided, applicants must demonstrate that the interventions are needed and support policy gaps. The Child Labor Education Initiative awarded under this cooperative agreement should complement existing approaches by focusing on ways to: (1) Enhance the viability of schooling as an alternative to hazardous and exploitive child labor; (2) mobilize stakeholders to participate in this activity; and (3) build the capacity of future national experts who will contribute directly to government policies through their commitment and expertise in using school interventions to reduce hazardous and exploitive child labor.

Applications in response to this solicitation are encouraged to:

a. Promote innovative approaches to address barriers in the specific countries and the sharing of good practices and lessons learned on exploitive child labor and education within the Dominican Republic and Central American region.

b. Encourage intra-governmental collaboration, among relevant agencies within each country, that will promote the goals of this project.

c. Support the institutionalization of efforts and reforms that might lead to improved incorporation of working children into educational settings, by creating and mobilizing stakeholders (at the local and national level) and by developing the capability to manage interventions using local resources and networks.

d. Support innovative, cross-sectoral and international strategies that will meet the needs for institutional development and for the mobilization of stakeholders.

e. Strengthen and build the capacity of NGOs, including faith-based organizations, community-based organizations, and the private sector, through organizational development and training, to provide educational programs.

f. Promote the types of alliances that might sustain the advocacy of education for the elimination of exploitive child labor.

g. Consider other relevant international and regional movements (such as Education For All; Commissions on the Rights of the Child; and PREAL), and relate initiatives under this solicitation to those movements that would promote the goals of this project.

h. Stimulate increased accountability and creative incentives for schools to incorporate children who are at-risk of entering abusive labor.

i. Promote, in collaboration with the national Ministries of Labor and Education and businesses, School-Business Partnerships and School-to-Work programs in which businesses collaborate with secondary schools by training students in occupational skills.

j. Promote awareness raising of core labor standards and restrictions on exploitive child labor among teachers, through in-service training.

In addition, applicants are strongly encouraged to collaborate with and complement existing projects, particularly those funded by USDOL, including Timebound and other projects implemented by ILO/IPEC, to the extent those projects further the goals of this project. However, applicants should not duplicate the activities of existing efforts and/or projects and should work within host government child labor frameworks. Country specific information is provided in Appendix B.

Note to All Applicants: The existence of approximately U.S. $10 million in USDOL-funded child labor projects in both El Salvador and the Dominican Republic, as well as a number of other donor sponsored efforts, creates a unique environment for the implementation of the proposed project under this cooperative agreement in El Salvador and the Dominican Republic. Any new initiative under this cooperative agreement should consider how best to complement, rather than duplicate, current projects in these countries so that the goals of this project are accomplished. Applicants are strongly encouraged to consider the number of efforts and amount of resources already in existence in El Salvador and the Dominican Republic when making resource allocations for the region. In El Salvador, applicants are also strongly encouraged to coordinate actions with the existing ILO/IPEC Timebound Program. In the case of the Dominican Republic, applicants should include the Dominican Republic in proposed regional activities and should collaborate closely with DevTech Systems and ILO/IPEC's Timebound Program efforts.

Barriers to Education for Working Children in Southern Africa (Botswana, Lesotho, Namibia, South Africa and Swaziland), and Focus of This Solicitation for the Region

Exploitive child labor in Southern Africa occurs frequently in the informal sector. Children work in commercial and subsistence agriculture in rural areas, and increasing numbers of orphans and vulnerable children work on the streets of major cities and towns. These children engage in begging, vending, washing cars, carrying goods, and prostitution. Young girls are often employed in domestic service, while boys are often found herding animals in rural and remote areas, which is often perceived as a traditional rite of passage for male youth in some of the countries. Many children work to help their families. However, children are often found working for long hours per day, which limits their ability to attend school, as well as their academic performance.

It is important to highlight that information on the nature and extent of exploitive child labor and the barriers to education in the Southern African countries is limited. All of the governments in the region have ratified ILO Conventions 138 and 182, but each is at a different stage of implementing the commitments made under the Conventions. An ILO/IPEC regional child labor project was recently funded by the USDOL and is being implemented in Botswana, Lesotho, Namibia, South Africa, and Swaziland. This ILO/IPEC project aims to improve the knowledge base of the worst forms of child labor and will pilot small direct action activities in Botswana, Lesotho, Namibia, and Swaziland. Activities under this solicitation should complement, and where possible, collaborate with those of the regional ILO/IPEC project.

As a whole, these countries dedicate a significant portion of their national budgets to education, ranging from 20 to 30 percent. All of the Southern African countries of interest under this solicitation, except for South Africa and Swaziland, offer free primary education; and, as a result, enrollment rates are relatively high. Many children who are enrolled in education also work, however, which leads to poorer retention and completion rates. There have been more attempts in the last few years to provide vocational education and skills training for older children, as well as those that have not received formal education. Nevertheless, given the magnitude of the need for these alternatives in Southern Africa, these programs have not been able to meet the demand, leaving some children without any educational opportunities.

Rural and “farm” schools continue to have inadequate resources and untrained or under-trained teachers. Access to these schools is also a major problem due to their location and the long distances that children must travel to reach them. Although education is free in most of the countries of Southern Africa, the costs associated with education, such as materials, school contributions, uniforms, and transportation and/or boarding restrict school enrollment and attendance. Given that many of these working children are already living in abject poverty, some cannot afford these fees and drop out or never enroll in school, ending up working with their parents or on the streets in an attempt to earn a living.

Moreover, the effects that the HIV/AIDS pandemic is having on Southern Africa, and its children, cannot be overlooked. HIV/AIDS exacerbates the problem of exploitive child labor throughout the region. Estimates put the HIV/AIDS rate in the region as high as 25 to 35 percent of the population aged 15-49. The pandemic is causing businesses to lose their most productive workers, children to lose their parents and caregivers, and schools to lose their teachers, while putting an enormous strain on the governments' resources to provide social services and education for their populations. Increasing numbers of children, affected by the HIV/AIDS pandemic, drop out of school to survive on their own and/or to provide for their sick relatives. Some estimates put the number of children orphaned by HIV/AIDS in the region at 500,000 to over one million. Projections from various governments and relief organizations are grim and state that the number of HIV/AIDS orphans in these countries may double by 2010.

Despite attempts to address the educational challenges that working children face, there are still critical gaps/needs that must be addressed. Applications in response to this solicitation are encouraged to address the following issues:

Limited public awareness and research concerning children's participation in exploitive labor (especially the worst forms).

Inadequate educational opportunities (including formal, vocational, and non-formal education) and social services (counseling and child protection) for children heading households, and orphans and vulnerable children living and/or working on the streets in towns and cities.

Insufficient access to quality formal, non-formal, and vocational education (long distances and few schools) and poor infrastructure, teacher quality, and basic resources in rural and farm schools.

Poor capacity of, and coordination between, government ministries, and inadequate policies and structures that support the implementation of child labor laws.

Inadequate opportunities for quality formal, non-formal, and vocational education for teenage mothers or pregnant girls, indigenous populations, and older children with little or no education.

Country specific information is provided in Appendix B.

The project funded by this solicitation should contribute to efforts already underway to prevent and eliminate hazardous child labor in Southern Africa, particularly for HIV/AIDS affected children, by addressing specific barriers to education. Applications in response to this solicitation are encouraged to promote the sharing of good practices and lessons learned on exploitive child labor and education within the Southern Africa region. In addition, applicants are strongly encouraged to collaborate with and complement existing projects, particularly those funded by USDOL, including Timebound and other projects implemented by ILO/IPEC. However, applicants should not duplicate the activities of existing efforts and/or projects and should work within host government child labor frameworks.

Note to All Applicants: The Government of South Africa has pro-actively responded to the problem of exploitive child labor with the development of the CLAP. The CLAP focuses on coordinating governmental, departmental, and provincial responses relating to children and exploitive child labor and outlines actions (including education interventions) that need to be taken to ensure that children are withdrawn from and prevented from entering exploitive labor. The ILO/IPEC “Supporting the Timebound Program to Eliminate the Worst Forms of Child Labor in South Africa's Child Labor Action Program,” recently funded by USDOL, will work within the Government of South Africa's CLAP framework. The project(s) funded under this solicitation should focus its efforts on education-related interventions that have been identified in the CLAP Framework, and, where possible, those under the ILO/IPEC Timebound Program. Close coordination and communication with the government should be maintained throughout the project period.

B. Statement of Work

Taking into account the challenges to educating working children in each region of interest, the applicant will facilitate, and implement, as appropriate, creative and innovative approaches to promote policies that will enhance the provision of educational opportunities to children engaged in or removed from exploitive child labor, particularly the worst forms. The expected outcomes/results of the project are, through improved policies and direct education service delivery, as applicable, to: (1) Increase educational opportunities and access (enrollment) for children who are engaged in, at risk of, and/or removed from exploitive child labor, particularly its worst forms; (2) encourage retention in, and completion of educational programs; and (3) expand the successful transition of children in non-formal education into formal schools or vocational programs.

In the course of implementation, each project must promote the goals of USDOL's Child Labor Education Initiative listed above in Section I (A) (i). Because of the limited available resources under this award, applicants should implement programs that complement existing efforts and, where appropriate, replicate or enhance successful models to serve expanded numbers of children and communities. However, applicants should not duplicate the activities of existing efforts and/or projects and should work within host government child labor and education frameworks. In order to avoid duplication, enhance collaboration, expand impact, and develop synergies, the cooperative agreement awardee (hereafter referred to as “Grantee”) should work cooperatively with regional and national stakeholders in developing project interventions. In Central America and the Dominican Republic, due to the number of existing efforts in the region and the need to promote sustainability, applicants are encouraged to support policy mechanisms and educational reforms that enable working children to benefit from education programs, rather than the provision of direct education service delivery. In Southern Africa, applicants should consider the economic and social contexts of each country when formulating project strategies and that approaches applicable in one country may not be relevant to others.

Applicants are strongly encouraged to discuss proposed interventions, strategies, and activities with host government officials during the preparation of an application for this cooperative agreement.

Partnerships between more than one organization are also eligible and encouraged, in particular with qualified, regionally-based organizations in order to build local capacity; in such a case, however, a lead organization must be identified. If the application does not propose interventions aimed toward the target group and geographical areas as identified (where applicable), then the application may be considered unresponsive. Applicants whose strategies include the provision of direct delivery of education are encouraged to enroll at least one-quarter of the targeted children the grantee is attempting to reach in educational activities during the first year of project implementation. Under this cooperative agreement, vocational training for adolescents and income generating alternatives for parents are allowable activities. Although USDOL is open to all proposals for innovative solutions to address the challenges of providing increased access to education to the children targeted, the applicant must, at a minimum, prepare responses following the outline of a preliminary project document presented in Appendix A. This response will be the foundation for the final project document that will be approved after award of the cooperative agreement.

Note to All Applicants: Grantees are expected to consult with and work cooperatively with stakeholders in the countries, including the Ministries of Education, Labor, and other relevant ministries, NGOs, national steering/advisory committees on child labor, education, faith and community-based organizations, and working children and their families. Grantees should ensure that their proposed activities and interventions are within those of the countries' national child labor and education frameworks and priorities, as applicable. Grantees are strongly encouraged to collaborate with existing projects, particularly those funded by USDOL, including Timebound Programs and other projects implemented by ILO/IPEC. However, applicants are reminded that this is a stand-alone project and that other federal awards cannot supplement a project awarded under this cooperative agreement.

II. Award Information

Type of assistance instrument: cooperative agreement. USDOL's involvement in project implementation and oversight is outlined in Section VI. The duration of the projects funded by this solicitation is four (4) years. The start date of program activities will be negotiated upon awarding of the cooperative agreement, but no later than September 30, 2004. Up to U.S. $14.5 million will be awarded under this solicitation, with up to $5.5 million for Central America (Costa Rica, El Salvador, Guatemala, Honduras, and Nicaragua) and the Dominican Republic, and up to $9 million for Southern Africa (Botswana, Lesotho, Namibia, South Africa and Swaziland). USDOL may award one or more cooperative agreements to one, several, or a partnership of more than one organization that may apply to implement the program. Any subcontractor must be approved by USDOL.

III. Eligibility Information

1. Eligible Applicants

Any commercial, international, educational, or non-profit organization, including any faith-based or community-based organizations, capable of successfully developing and implementing education programs for working children or children at risk of entering exploitive work in the regions/countries of interest is eligible to apply. Partnerships of more than one organization are also eligible, and applicants are strongly encouraged to work with organizations already undertaking projects in the regions/countries of interest, particularly local and regional NGOs, including faith-based and community-based organizations. In the case of partnership applications, a lead organization must be identified. An applicant must demonstrate a regional/country presence, independently or through a relationship with another organization(s) with regional/country presence, which gives it the ability to initiate program activities upon award of the cooperative agreement. (All applicants are requested to complete the Survey on Ensuring Equal Opportunity for Applicants (OMB No. 1225-0083), which is available online at http://www.dol.gov/ILAB/grants/sga0406/bkgrdSGA0406.htm.). The capability of an applicant or applicants to perform necessary aspects of this solicitation will be determined under the criteria outlined in the Application Review Information section of this solicitation.

PLEASE NOTE THAT TO BE ELIGIBLE, COOPERATIVE AGREEMENT APPLICANTS CLASSIFIED UNDER THE INTERNAL REVENUE CODE AS A 501(c)(4) ENTITY (see 26 U.S.C. 501(c)(4)), MAY NOT ENGAGE IN LOBBYING ACTIVITIES. According to the Lobbying Disclosure Act of 1995, as amended by 2 U.S.C. 1611, an organization, as described in Section 501(c)(4) of the Internal Revenue Code of 1986, that engages in lobbying activities will not be eligible for the receipt of federal funds constituting an award, grant, cooperative agreement, or loan. Applicants applying for more than one region must submit a separate application for each region. If applications for the two regions are combined, they will not be considered.

2. Cost Sharing or Matching

This solicitation does not require applicants to share costs or provide matching funds. However, the leveraging of resources and in-kind contributions is strongly encouraged.

3. Other Eligibility Criteria

In accordance with 29 CFR Part 98, entities that are debarred or suspended shall be excluded from Federal financial assistance and are ineligible to receive funding under this solicitation. Past performance of organizations already implementing Child Labor Education Initiative projects or activities for USDOL will be taken into account. Past performance will be rated by the timeliness of deliverables, and the responsiveness of the organization and its staff to USDOL communications regarding deliverables and cooperative agreement or contractual requirements. Lack of past experience with USDOL projects, cooperative agreements, grants, or contracts will not be penalized.

IV. Application and Submission Information

1. Address To Request Application Package

This solicitation contains all of the necessary information and forms needed to apply for cooperative agreement funding. This solicitation is published as part of this Federal Register notice, and in the Federal Register, which may be obtained from your nearest U.S. Government office or public library or online at http://www.archives.gov/federal_register/index.html.

2. Content and Form of Application Submission

One (1) blue ink-signed original, complete application in English plus two (2) copies (in English) of the application, must be submitted to the U.S. Department of Labor, Procurement Services Center, 200 Constitution Avenue, NW., Room N-5416, Attention: Lisa Harvey, Reference Solicitation 04-06, Washington, DC 20210, not later than 4:45 p.m. Eastern Time, June 7, 2004. Applicants may submit applications for one or both regions. In the case where an applicant is interested in applying for a cooperative agreement in both regions, a separate application must be submitted for each region.

The application must consist of two (2) separate parts, as well as a table of contents and an abstract summarizing the application in not more that two (2) pages. These pages are also not included in the 45-page limit for Part II.

Part I of the application must contain the Standard Form (SF) 424, Application for Federal Assistance and Sections A-F of the Budget Information Form SF 424A, available from ILAB's Web site at http://www.dol.gov/ILAB/grants/sga0406/bkgrdSGA0406.htm. Copies of these forms are also available online from the GSA Web site at http://contacts.gsa.gov/webforms.nsf/0/B835648D66D1B8F985256A72004C58C2/$file/sf424.pdf and http://contacts.gsa.gov/webforms.nsf/0/5AEB1FA6FB3B832385256A72004C8E77/$file/Sf424a.pdf. The individual signing the SF 424 on behalf of the applicant must be authorized to bind the applicant. The budget/cost proposal must be written in 10-12 pitch font size.

Part II must provide a technical application that identifies and explains the proposed program and demonstrates the applicant's capabilities to carry out that proposal. The technical application must identify how it will carry out the Statement of Work (Section I (B) of this solicitation) and address each of the Application Review Criteria found in Section V (1).

The Part II technical application must not exceed 45 single-sided (8½″ x 11″), double-spaced, 10 to 12 pitch typed pages for each region, and must include responses to the application evaluation criteria outlined in this solicitation. Part II must include a project document submitted in the format shown in Appendix A. The application should include the name, address, telephone and fax numbers, and e-mail address (if applicable) of a key contact person at the applicant's organization in case questions should arise.

Applications will only be accepted in English. To be considered responsive to this solicitation, the application must consist of the above-mentioned separate parts. Any applications that do not conform to these standards may be deemed non-responsive to this solicitation and may not be evaluated. Standard forms and attachments are not included in the 45-page limit for Part II. However, additional information not required under this solicitation will not be considered.

3. Submission Dates and Times

Applications must be delivered to: U.S. Department of Labor, Procurement Services Center, 200 Constitution Avenue, NW., Room N-5416, Attention: Lisa Harvey, Reference: Solicitation 04-06, Washington, DC 20210. Applications sent by e-mail, telegram, or facsimile (FAX) will not be accepted. Applications sent by other delivery services, such as Federal Express, UPS, etc., will be accepted; however, the applicant bears the responsibility for timely submission. The application package must be received at the designated place by the date and time specified or it will not be considered. Any application received at Procurement Services Center after 4:45 p.m. Eastern Time, June 7, 2004, will not be considered unless it is received before the award is made and:

A. It is determined by the Government that the late receipt was due solely to mishandling by Government after receipt at USDOL at the address indicated;

B. It was sent by registered or certified mail not later than the fifth calendar day before 30 days from the date of publication in the Federal Register; or

C. It was sent by U.S. Postal Service Express Mail Next Day Service-Post Office to Addressee, not later than 5 p.m. at the place of mailing two (2) working days, excluding weekends and Federal holidays, prior to June 7, 2004.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail Next Day Service-Post Office to Addressee is the date entered by the Post Office clerk on the “Express Mail Next Day Service-Post Office to Addressee” label and the postmark on the envelope or wrapper on the original receipt from the U.S. Postal Service. “Postmark” has the same meaning as defined above. Therefore, applicants should request that the postal clerk place a legible hand cancellation “bull's-eye” postmark on both the receipt and the envelope or wrapper.

The only acceptable evidence to establish the time of receipt at USDOL is the date/time stamp of the Procurement Service Center on the application wrapper or other documentary evidence of receipt maintained by that office.

Applications sent by e-mail, telegram, or facsimile (FAX) will not be accepted. Applications sent by other delivery services, such as Federal Express, UPS, etc., will be accepted; however the applicant bears the responsibility for timely submission. It is recommended that you confirm receipt of your application with your delivery service. Confirmation of receipt can be made with Lisa Harvey, U.S. Department of Labor, Procurement Services Center, telephone (202) 693-4570 (this is not a toll-free-number) or e-mail: harvey.lisa@dol.gov. All applicants are advised that U.S. mail delivery in the Washington DC area can be slow and erratic due to concerns involving contamination. All applicants must take this into consideration when preparing to meet the application deadline.

4. Intergovernmental Review

This funding opportunity is not subject to Executive Order (EO) 12372, “Intergovernmental Review of Federal Programs.”

5. Funding Restrictions

A. In addition to those specified under OMB Circular A-122, the following costs are also unallowable:

i. Construction with funds under this cooperative agreement should not exceed 10% of the project budget's direct costs and should be, preferably, limited to improving existing school infrastructure and facilities in the project's targeted communities. USDOL encourages applicants to cost-share and/or leverage funds or in-kind contributions from local partners when proposing construction activities in order to ensure sustainability.

ii. Under this cooperative agreement, vocational training for adolescents and income generating alternatives for parents are allowable activities. However, federal funds under this cooperative agreement cannot be used to provide micro-credits or revolving funds.

iii. Awards will not allow reimbursement of pre-award costs.

B. The following activities are also unallowable under this solicitation:

i. Under this cooperative agreement, awareness raising and advocacy cannot include lobbying or fund-raising (see OMB Circular A-122).

ii. The U.S. Government is opposed to prostitution and related activities, which are inherently harmful and dehumanizing, and contribute to the phenomenon of trafficking in persons. U.S. non-governmental organizations, and their sub-awardees, cannot use U.S. Government funds to lobby for, promote or advocate the legalization or regulation of prostitution as a legitimate form of work. Foreign non-governmental organizations, and their sub-awardees, that receive U.S. Government funds to fight trafficking in persons cannot lobby for, promote or advocate the legalization or regulation of prostitution as a legitimate form of work. It is the responsibility of the primary Grantee to ensure its sub-awardees meet these criteria.

6. Other Submission Requirements

The closing date for receipt of applications is June 7, 2004. As discussed above, applications must be received by 4:45 p.m. (Eastern Time) at the address identified in Section IV (3) above. No exceptions to the mailing, delivery, and hand-delivery conditions set forth in this notice will be granted. Applications that do not meet the conditions set forth in this notice will not be accepted. Telegram, facsimile (FAX), and e-mail applications will not be accepted.

FOR FURTHER INFORMATION CONTACT: Lisa Harvey. E-mail address: harvey.lisa@dol.gov.

V. Application Review Information

1. Application Evaluation Criteria

Technical panels will review applications written in the specified format (see Section I, Section IV (2) and Appendix A) against the various criteria on the basis of 100 points. Up to five additional points will be given for the inclusion of non-federal or leveraged resources as described below. Applicants are requested to prepare their technical proposal (45 page maximum) on the basis of the following rating factors, which are presented in the order of emphasis that they will receive, and the maximum rating points for each factor.

Program Design/Budget-Cost Effectiveness—45 points

Organizational Capacity—30 points

Management Plan/Key Personnel/Staffing—25 points

Leveraging Resources—5 extra points

A. Project/Program Design/Budget-Cost Effectiveness (45 Points)

This part of the application constitutes the preliminary project document described in Section I (B) and outlined in Appendix A. The applicant's proposal should describe in detail the proposed approach to comply with each requirement.

This component of the application should demonstrate the applicant's thorough knowledge and understanding of the issues, barriers and challenges involved in providing education to children engaged in or at risk of engaging in exploitive child labor, particularly its worst forms; best-practice solutions to address their needs; and the implementing environment in the selected region. When preparing the project document outline, the applicant should at minimum include a description of:

i. Children Targeted—The applicant will identify which and how many children will benefit from the project, including the sectors in which they work, geographical location, and other relevant characteristics. Children are defined as persons under the age of 18 who have been engaged in the worst forms of child labor as defined by ILO Convention 182, or those under the legal working age of the country and who are engaged in other hazardous and/or exploitive activities.

ii. Needs/Gaps/Barriers—The applicant will describe the specific gaps/educational needs of the children targeted that the project will address.

iii. Proposed Strategy—The applicant will discuss the proposed regional strategy to address gaps/needs/barriers of the children targeted and its rationale.

iv. Description of Activities—The applicant will provide a detailed description of proposed activities that relate to the gaps/needs/barriers to be addressed, including training and technical assistance to be provided to project staff, host country nationals, and community groups involved in the project. Ideally, the proposed approach should build upon existing activities, government policies, and plans, and avoid needless duplication.

v. Work Plan—The applicant will provide a detailed work plan and timeline for the proposed project, preferably with a visual such as a Gantt chart. Applicants whose strategies include the provision of direct delivery of education are also encouraged to enroll one-quarter of the targeted children in educational activities during the first year of project implementation.

vi. Program Management and Performance Assessment—The applicant will describe: (1) How management will ensure that the goals and objectives will be met; (2) how information and data will be collected and used to demonstrate the impacts of the project; and (3) what systems will be put in place for self-assessment, evaluation and continuous improvement. Note to All Applicants: USDOL has already developed common indicators and a database system for monitoring children's educational progress that can be used and adapted by Grantees after award so that they do not need to set up this type of system from scratch. Guidance on common indicators will be provided after award, thus applicants should focus their program management and performance assessment responses toward the development of their project's monitoring strategy in support of the four goals of the Child Labor Education Initiative. For more information on the Child Labor Education Initiative's common indicators, please visit http://www.clear-measure.com.

vii. Budget/Cost Effectiveness—The applicant will show how the budget reflects program goals and design in a cost-effective way so as to reflect budget/performance integration. The budget should be linked to the activities and outputs of the implementation plan listed above. This section of the application should explain the costs for performing all of the requirements presented in this solicitation, and for producing all required reports and other deliverables. Costs must include labor, equipment, travel, annual audits, evaluations, and other related costs. Applications should allocate sufficient resources to proposed studies, assessments, surveys, and monitoring and evaluation activities. When developing their applications, applicants should allocate the largest proportion of resources to educational activities aimed at targeted children, rather than direct costs. Preference may be given to applicants with low administrative costs and with a budget breakdown that provides a larger amount of resources to project activities. All costs should be reported, as they will become part of the cooperative agreement upon award. In their cost proposal, applicants must reflect a breakdown of the total administrative costs into direct administrative costs and indirect administrative costs. This section will be evaluated in accordance with applicable Federal laws and regulations. The budget must comply with Federal cost principles (which can be found in the applicable OMB Circulars).

Applicants are encouraged to discuss the possibility of exemption from customs and Value Added Tax (VAT) with host government officials during the preparation of an application for this cooperative agreement. While USDOL encourages host governments to not apply custom or VAT taxes to USDOL-funded programs, some host governments may nevertheless choose to assess such taxes. USDOL may not be able to provide assistance in this regard. Applicants should take into account such costs in budget preparation. If major costs are omitted, a Grantee may not be allowed to include them later.

B. Organizational Capacity (30 Points)

Under this criterion, the applicant must present the qualifications of the organization(s) implementing the program/project. The evaluation criteria in this category are as follows:

i. International Experience—The organization applying for the award has international experience implementing basic, transitional, non-formal or vocational education programs that address issues of access, quality, and policy reform for vulnerable children including children engaged in or at risk of exploitive child labor, preferably in the regions and countries of interest.

ii. Regional/Country Presence—An applicant, or its partners, must be formally recognized by the host government(s) using the appropriate mechanism, e.g., Memorandum of Understanding, local registration of organization. An applicant must also demonstrate a regional/country presence, independently or through a relationship with another organization(s) with regional/country presence, which gives it the ability to initiate program activities upon award of the cooperative agreement, as well as the capability to work directly with government ministries, educators, civil society leaders, and other local faith-based or community organizations. For applicants that do not have independent regional/country presence, documentation of the relationship with the organization(s) with such a presence must be provided. Applicants are strongly encouraged to work collaboratively with local partners and organizations.

iii. Fiscal Oversight—The organization shows evidence of a sound financial system. The results of the most current independent financial audit must accompany the application, and applicants without one will not be considered.

iv. Coordination—If two or more organizations are applying for the award in the form of a partnership, they must demonstrate an approach to ensure the successful collaboration including clear delineation of respective roles and responsibilities. The applicants must also identify the lead organization and submit the partnership agreement.

v. Experience—The application must include information about previous grant, cooperative agreements, or contracts of the applicant that are relevant to this solicitation including:

a. The organizations for which the work was done;

b. A contact person in that organization with their current phone number;

c. The dollar value of the grant, contract, or cooperative agreement for the project;

d. The time frame and professional effort involved in the project;

e. A brief summary of the work performed; and

f. A brief summary of accomplishments.

This information on previous grants, cooperative agreements, and contracts held by the applicant shall be provided in appendices and will not count in the maximum page requirement.

Note to All Applicants: Past performance of organizations already implementing Child Labor Education Initiative projects or activities for USDOL will be taken into account in judging organizational capacity. Past performance will be rated by the timeliness of deliverables, and the responsiveness of the organization and its staff to USDOL communications regarding deliverables and cooperative agreement or contractual requirements. Lack of past experience with USDOL projects, cooperative agreements, grants, or contracts will not be penalized.

C. Management Plan/Key Personnel/Staffing (25 Points)

Successful performance of the proposed work depends heavily on the management skills and qualifications of the individuals committed to the project. Accordingly, in its evaluation of each application, USDOL will place emphasis on the applicant's management approach and commitment of personnel qualified for the work involved in accomplishing the assigned tasks. This section of the application must include sufficient information to judge management and staffing plans, and the experience and competence of program staff proposed for the project to assure that they meet the required qualifications. Information provided on the experience and educational background of personnel should include the following:

• The identity of key personnel assigned to the project. “Key personnel” are staff (Project Director, Education Specialist, and Monitoring and Evaluation Officer) who are essential to the successful operation of the project and completion of the proposed work and, therefore, may not be replaced or have hours reduced without the approval of the Grant Officer.

• The educational background and experience of all staff to be assigned to the project.

• The special capabilities of staff that demonstrate prior experience in organizing, managing and performing similar efforts.

• The current employment status of staff and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance are proposed, organizational control should be clearly delineated to ensure responsiveness to the needs of USDOL.

Note to All Applicants: USDOL strongly recommends that key personnel allocate at least 50% of their time to the project and be present within the region, specifically in one of the project countries. USDOL prefers that key personnel positions not be combined unless the applicant can propose a cost-effective strategy that ensures that all key management and technical functions (as identified in this solicitation) are clearly defined and satisfied. Key personnel must sign letters of agreement to serve on the project, and indicate availability to commence work within three weeks of cooperative agreement award. Applicants must submit these letters as part of the application.

In this section, the following information must be furnished:

i. Key personnel—For each region for which an application is submitted, the applicant must designate the key personnel listed below. If key personnel are not designated, the application will not be considered.

a. A Project Director to oversee the project and be responsible for implementation of the requirements of the cooperative agreement. The Program Director must have a minimum of three years of professional experience in a leadership role in implementation of complex basic education programs in developing countries in areas such as education policy; improving educational quality and access; educational assessment of disadvantaged students; development of community participation in the improvement of basic education for disadvantaged children; and monitoring and evaluation of basic education projects. Consideration will be given to candidates with additional years of experience including experience working with officials of ministries of education and/or labor. Preferred candidates will also have knowledge of exploitive child labor issues, and experience in the development of transitional, formal, and vocational education of children removed from exploitive child labor and/or victims of the worst forms of child labor. Fluency in English is required and working knowledge of the official language(s) spoken in the target countries is preferred.

b. An Education Specialist who will provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with exploitive child labor/education policy and monitoring and evaluation is an asset. Working knowledge of English preferred, as is a similar knowledge of official language(s) spoken in the target region/countries.

c. A Monitoring and Evaluation Officer who will serve at least part-time and oversee the implementation of the project's monitoring and evaluation strategies and requirements. This person should have at least three years progressively responsible experience in the monitoring and evaluation of international development projects, preferably in education and training or a related field. Related experience can include strategic planning and performance measurement, indicator selection, quantitative and qualitative data collection and analysis methodologies, and knowledge of the Government Performance and Results Act (GPRA). Individuals with a demonstrated ability to build capacity of the project team and partners in these domains will be given special consideration.

ii. Other Personnel—The applicant must identify other program personnel proposed to carry out the requirements of this solicitation.

iii. Management Plan—The management plan must include the following:

a. A description of the functional relationship between elements of the project's management structure; and

b. The responsibilities of project staff and management and the lines of authority between project staff and other elements of the project.

iv. Staff Loading Plan—The staff loading plan must identify all key tasks and the person-days required to complete each task. Labor estimated for each task must be broken down by individuals assigned to the task, including sub-contractors and consultants. All key tasks should be charted to show time required to perform them by months or weeks.

v. Roles and Responsibilities—The applicant must include a resume and description of the roles and responsibilities of all personnel proposed. Resumes must be attached in an appendix. At a minimum, each resume must include: the individual's current employment status and previous work experience, including position title, duties, dates in position, employing organizations, and educational background. Duties must be clearly defined in terms of role performed, e.g., manager, team leader, and/or consultant. Indicate whether the individual is currently employed by the applicant, and (if so) for how long.

D. Leverage of Grant Funding (5 Points)

USDOL will give up to five (5) additional rating points to applications that include non-Federal resources that significantly expand the dollar amount, size and scope of the application. These programs will not be financed by the project, but can complement and enhance project objectives. Applicants are also encouraged to leverage activities such as micro-credit or income generation projects for adults that are not directly allowable under the cooperative agreement. To be eligible for the additional points, the applicant must list the source(s) of funds, the nature, and possible activities anticipated with these funds under this cooperative agreement and any partnerships, linkages or coordination of activities, cooperative funding, etc.

2. Review and Selection Process

USDOL will screen all applications to determine whether all required elements are present and clearly identifiable. Each complete application will be objectively rated by a technical panel against the criteria described in this announcement. Applicants are advised that panel recommendations to the Grant Officer are advisory in nature. The Grant Officer may elect to select a Grantee on the basis of the initial application submission; or, the Grant Officer may establish a competitive or technically acceptable range from which qualified applicants will be selected. If deemed appropriate, the Grant Officer may call for the preparation and receipt of final revisions of applications, following which the evaluation process described above may be repeated, in whole or in part, to consider such revisions. The Grant Officer will make final selection determinations based on panel findings and consideration of factors that represent the greatest advantage to the government, such as geographic distribution of the competitive applications, cost, the availability of funds and other factors. The Grant Officer's determinations for awards under this solicitation are final.

Note: Selection of an organization as a cooperative agreement recipient does not constitute approval of the cooperative agreement application as submitted. Before the actual cooperative agreement is awarded, USDOL may enter into negotiations about such items as program components, funding levels, and administrative systems in place to support cooperative agreement implementation. If the negotiations do not result in an acceptable submission, the Grant Officer reserves the right to terminate the negotiation and decline to fund the application. Award may also be contingent upon an exchange of project support letters between USDOL and the relevant ministries in target countries.

3. Anticipated Announcement and Award Dates

Designation decisions will be made, where possible, within 45 days after the deadline for submission of proposals.

VI. Award Administration Information

1. Award Notices

The Grant Officer will notify applicants of designation results as follows: Designation Letter: The designation letter signed by the Grant Officer will serve as official notice of an organization's designation. The designation letter will be accompanied by a cooperative agreement and USDOL/ILAB's Management Procedures and Guidelines (MPG). Non-Designation Letter: Any organization not designated will be notified formally of the non-designation and given the basic reasons for the determination.

Notification by a person or entity other than the Grant Officer, that an organization has or has not been designated, is not valid.

2. Administrative and National Policy Requirements

A. General

Grantee organizations are subject to applicable U.S. Federal laws (including provisions of appropriations law) and the applicable Office of Management and Budget (OMB) Circulars. If during project implementation, a Grantee is found in violation of U.S. government regulations, the terms of the cooperative agreement awarded under this solicitation may be modified by USDOL, costs may be disallowed and recovered, the cooperative agreement may be terminated, and USDOL may take other action. Determinations of allowable costs will be made in accordance with the applicable U.S. Federal cost principles. Grantees will also be required to submit to an annual independent audit, and costs for such an audit should be included in direct or indirect costs, whichever is appropriate.

The cooperative agreements awarded under this solicitation are subject to the following administrative standards and provisions, and any other applicable standards that come into effect during the term of the grant agreement, if applicable to a particular Grantee:

29 CFR Part 31—Nondiscrimination In Federally Assisted Programs of the Department of Labor—Effectuation of Title VI of the Civil Rights Act of 1964.

29 CFR Part 32—Nondiscrimination on the Basis of Handicap In Programs and Activities Receiving or Benefiting from Federal Financial Assistance.

29 CFR Part 33—Enforcement of Nondiscrimination on the Basis of Handicap In Programs or Activities Conducted by the Department of Labor.

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Government-wide Debarment and Suspension (Nonprocurement) and Government-wide Requirements for Drug-Free Workplace (Grants).

29 CFR Part 99—Federal Standards for Audits of States, Local Governments, and Non-Profit Organizations.

Applicants are reminded to budget for compliance with the administrative requirements set forth. This includes the cost of performing administrative activities such as annual financial audits, closeout, mid-term and final evaluations, document preparation, as well as compliance with procurement and property standards. Copies of all regulations referenced in this solicitation are available at no cost, on-line, at http://www.dol.gov.

Grantees should be aware that terms outlined in this solicitation, the cooperative agreement, and the MPGs are applicable to the implementation of projects awarded under this solicitation.

B. Sub-contracts

Sub-contracts must be awarded in accordance with 29 CFR 95.40-48. In compliance with Executive Orders 12876, as amended, 13230, 12928 and 13021, as amended, Grantees are strongly encouraged to provide sub-contracting opportunities to Historically Black Colleges and Universities, Hispanic-Serving Institutions and Tribal Colleges and Universities. To the extent possible, sub-contracts granted after the cooperative agreement is signed must be awarded through a formal competitive bidding process, unless prior written approval is obtained from USDOL/ILAB.

C. Key Personnel

The applicant shall list the individual(s) who has/have been designated as having primary responsibility for the conduct and completion of all project work. The applicant must submit written proof that key personnel will be available to begin work on the project no later than three weeks after award. Grantees agree to inform the Grant Officer's Technical Representative (GOTR) whenever it appears impossible for this individual(s) to continue work on the project as planned. A Grantee may nominate substitute key personnel and submit the nominations to the GOTR; however, a Grantee must obtain prior approval from the Grant Officer for all changes to key personnel (Project Director, Education Specialist, and Monitoring and Evaluation Officer). If the Grant Officer is unable to approve the key personnel change, he/she reserves the right to terminate the cooperative agreement.

D. Encumbrance of Cooperative Agreement Funds

Cooperative agreement funds may not be encumbered/obligated by a Grantee before or after the period of performance. Encumbrances/obligations outstanding as of the end of the cooperative agreement period may be liquidated (paid out) after the end of the cooperative agreement period. Such encumbrances/obligations shall involve only specified commitments for which a need existed during the cooperative agreement period and which are supported by approved contracts, purchase orders, requisitions, invoices, bills, or other evidence of liability consistent with a Grantee's purchasing procedures and incurred within the cooperative agreement period. All encumbrances/obligations incurred during the cooperative agreement period shall be liquidated within 90 days after the end of the cooperative agreement period, if practicable.

All equipment purchased with project funds should be inventoried and secured throughout the life of the project. At the end of the project, USDOL and the Grantees will determine how to best allocate equipment purchased with project funds in order to ensure sustainability of efforts in the projects' implementing areas.

E. Site Visits

USDOL, through its authorized representatives, has the right, at all reasonable times, to make site visits to review project accomplishments and management control systems and to provide such technical assistance as may be required. If USDOL makes any site visit on the premises of a Grantee or a sub-contractor(s) under this cooperative agreement, a Grantee shall provide and shall require its sub-contractors to provide all reasonable facilities and assistance for the safety and convenience of government representatives in the performance of their duties. All site visits and evaluations shall be performed in a manner that will not unduly delay the implementation of the project.

3. Reporting and Deliverables

In addition to meeting the above requirements, a Grantee will be expected to monitor the implementation of the program, report to USDOL on a quarterly basis, and undergo evaluations of program results. Guidance on USDOL procedures and management requirements will be provided to Grantees in MPGs with the cooperative agreement. The project budget must include funds to: Plan, implement, monitor, and evaluate programs and activities (including mid-term and final evaluations and annual audits); conduct studies pertinent to project implementation; establish education baselines to measure program results; and finance travel by field staff key personnel to meet annually with USDOL officials in Washington, DC. Applicants based both within and outside the United States should also budget for travel by field staff and other key personnel to Washington, DC at the beginning of the project for a post-award meeting with USDOL. Indicators of performance will also be developed by a Grantee and approved by USDOL. Unless otherwise indicated, a Grantee must submit copies of all required reports to ILAB by the specified due dates. Specific deliverables are the following:

A. Project Design Document

Applicants will prepare a preliminary project document in the format described in Appendix A, with design elements linked to a logical framework matrix. (Note: The supporting logical framework matrix will not count in the 45-page limit but should be included as an annex to the project document. To guide applicants, a sample logical framework matrix for a hypothetical Child Labor Education Initiative project is available at http://www.dol.gov/ILAB/grants/sga0406/bkgrdSGA0406.htm.). The project document will include a background/justification section, project strategy (goal, purpose, outputs, activities, indicators, means of verification, assumptions), project implementation timetable and project budget. The narrative will address the criteria/themes described in the Program Design/Budget-Cost Effectiveness section below.

Within six months after the time of the award, the Grantee will deliver the final project design document, based on the application written in response to this solicitation, including the results of additional consultation with stakeholders, partners, and ILAB. The final project design document will also include sections that address coordination strategies, project management and sustainability.

B. Progress and Financial Reports

The format for the progress reports will be provided in the MPG distributed after the award. Grantees must furnish a typed technical progress report and a financial report (SF269) to USDOL/ILAB on a quarterly basis by 31 March, 30 June, 30 September, and 31 December of each year during the cooperative agreement period. Also, a copy of the PSC 272 should be submitted to ILAB upon submission to the Health and Human Services—Payment Management System (HHS-PMS).

C. Annual Work Plan

An annual work plan will be developed within six months of project award and approved by ILAB so as to ensure coordination with other relevant social actors throughout the region. Subsequent annual work plans will be delivered no later than one year after the previous one.

D. Performance Monitoring and Evaluation Plan

A performance monitoring and evaluation plan will be developed, in collaboration with USDOL/ILAB, including beginning and ending dates for the project, indicators and methods and cost of data collection, planned and actual dates for mid-term review, and final end of project evaluations. The performance monitoring plan will be developed in conjunction with the logical framework project design and common indicators for GPRA reporting selected by ILAB. The plan will include a limited number of key indicators that can be realistically measured within the cost parameters allocated to project monitoring. Baseline data collection will be tied to the indicators of the project design document and the performance monitoring plan. A monitoring and evaluation plan will be submitted to ILAB within six months of project award.

E. Project Evaluations

Grantees and the GOTR will determine on a case-by-case basis whether mid-term evaluations will be conducted by an internal or external evaluation team. All final evaluations will be external and independent in nature. A Grantee must respond in writing to any comments and recommendations resulting from the review of the mid-term report. The budget must include the projected cost of mid-term and final evaluations. Note to All Applicants: USDOL provides its Grantees with training and technical assistance to refine the quality of deliverables. This assistance includes workshops to refine project design and improve performance monitoring plans, and reporting on Child Labor Education Initiative common indicators.

Exact timeframes for completion of deliverables will be addressed in the cooperative agreement and the MPGs.

VII. Agency Contacts

All inquiries regarding this solicitation should be directed to: Ms. Lisa Harvey, U.S. Department of Labor, Procurement Services Center, 200 Constitution Avenue, NW., Room N-5416, Washington, DC 20210; telephone (202) 693-4570 (this is not a toll-free-number) or e-mail: harvey.lisa@dol.gov.

VIII. Other Information

Production of Deliverables

1. Materials Prepared Under the Cooperative Agreement

Grantees must submit to USDOL/ILAB, for approval, all media-related, awareness-raising, and educational materials developed by it or its sub-contractors before they are reproduced, published, or used. USDOL/ILAB considers that materials include brochures, pamphlets, videotapes, slide-tape shows, curricula, and any other training materials used in the program. USDOL/ILAB will review materials for technical accuracy.

2. Acknowledgment of USDOL Funding

USDOL has established procedures and guidelines regarding acknowledgement of funding. USDOL requires, in most circumstances, that the following be displayed on printed materials: “Funding provided by the United States Department of Labor under Cooperative Agreement No. E-9-X-X-XXXX.” With regard to press releases, requests for proposals, bid solicitations, and other documents describing projects or programs funded in whole or in part under this cooperative agreement, all Grantees are required to consult with USDOL/ILAB on: Acknowledgment of USDOL funding; general policy issues regarding international child labor; and informing USDOL, to the extent possible, of major press events and/or interviews. More detailed guidance on acknowledgement of USDOL funding will be provided upon award to the Grantee(s) in the cooperative agreement and MPG.

In consultation with USDOL/ILAB, USDOL will be acknowledged in one of the following ways:

A. The USDOL logo may be applied to USDOL-funded material prepared for worldwide distribution, including posters, videos, pamphlets, research documents, national survey results, impact evaluations, best practice reports, and other publications of global interest. A Grantee must consult with USDOL/ILAB on whether the logo may be used on any such items prior to final draft or final preparation for distribution. In no event will the USDOL logo be placed on any item until USDOL/ILAB has given a Grantee written permission to use the logo on the item.

B. The following notice must appear on all documents: “This document does not necessarily reflect the views or policies of the U.S. Department of Labor, nor does mention of trade names, commercial products, or organizations imply endorsement by the U.S. Government.” In addition, any information submitted in response to this solicitation will be subject to the provisions of the Privacy Act and the Freedom of Information Act, as appropriate. USDOL is not obligated to make any awards as result of this solicitation, and only the Grant Officer can bind USDOL to the provision of funds under this solicitation. Unless specifically provided in the cooperative agreement, USDOL's acceptance of a proposal and/or award of Federal funds do not waive any cooperative agreement requirements and/or procedures.

Signed at Washington, DC, this 30th day of April, 2004.
Lisa Harvey,
Acting Grant Officer.

Appendix A: Project Document Format

Executive Summary

1. Background and Justification

2. Target Groups

3. Program Approach and Strategy

3.1 Narrative of Approach and Strategy (linked to Logical Framework Matrix)

3.2 Project Implementation Timeline (Gantt Chart of Activities linked to Logical Framework)

3.3 Budget (with cost of Activities linked to Outputs for Budget Performance Integration)

4. Project Monitoring and Evaluation

4.1 Indicators and Means of Verification

4.2 Baseline Data Collection Plan

5. Institutional and Management Framework

5.1 Institutional Arrangements for Implementation

5.2 Collaborating and Implementing Institutions (Partners) and Responsibilities

5.3 Other Donor or International Organization Activity and Coordination

5.4 Project Management Organizational Chart

6. Inputs

6.1 Inputs provided by the DOL

6.2 Inputs provided by the Grantee

6.3 National and/or Other Contributions

7. Sustainability

Annex A: Full Presentation of the Logical Framework Matrix

Annex B: Out-Put Based Budget Example

(A worked example of a Logical Framework matrix, an Out-put Based Budget, and other background documentation for this solicitation are available from the USDOL/ILAB Web site at http://www.dol.gov/ILAB/grants/sga0406/bkgrdSGA0406.htm.)

Appendix B: Country Background Section

Central America and the Dominican Republic

Costa Rica

In 2002, the Costa Rican Multiple Purpose Household Survey reported that 11.4 percent of children ages 5 to 17, or 127,077 children, were working. Children in Costa Rica work in agriculture, both on small family farms as well as in commercial coffee and sugarcane, construction, carpentry, a variety of service occupations, and street vending. Children are also engaged in prostitution and pornography, sometimes as a result of the sex tourism industry. Many of the children working in commercial agriculture in Costa Rica are native Nicaraguans. Despite Costa Rica's relatively high enrollment rates, 44 percent of working children leave the education system, while the remainder combines school and work.

Barriers to education for working children still exist in Costa Rica. Because education for working children is a complex issue, it requires new levels of collaboration across government agencies. Although Costa Rica has a long history of well-established government institutions, agencies are still faced with the challenge of coordinating their actions on exploitive child labor. There is a tendency to fit the problem of exploitive child labor and education to the budget and mandate of an agency, rather than to develop strategies to link the energy and efforts of the various agencies in order to better confront the problem. There is also a need to move beyond localized, fragmented agreements in order to develop broader collaborative policies to promote working children's access to education.

In addition to a lack of interagency cooperation, there is also a lack of government to civil society collaboration on issues of education and exploitive child labor. The country's education system is extremely centralized, and there are few examples of community involvement in schooling. There is a need to engage parents, communities, and NGOs more openly in the education system. By involving the community in the process of education, awareness about the importance of schooling instead of exploitive child labor can be nurtured. Although some private sector organizations have become involved in the issue, for the most part, businesses and labor unions in Costa Rica have not been involved in the promotion of schooling for working children. NGOs in Costa Rica that have been very involved in issue of exploitive child labor have not yet had the opportunity to share their experiences and knowledge with the government.

El Salvador

In 2001, the Government of El Salvador's Multiple Purpose Household Survey reported that 11.5 percent of children ages 5 to 17 (222,479 children) in El Salvador were working. Most working children live in rural areas and work in agriculture, while others work in activities such as fishing, fireworks production, garbage scavenging, and street vending, drug trafficking, and commercial sexual exploitation. Approximately 35 percent of children who work in agriculture and related activities do not attend school, while 27 percent who work in services and 24 percent who work in manufacturing remain outside of the education system.

Despite the number of efforts in the country to date, there remain a number of barriers to education for working children. Despite a growing national consciousness to address the issue of education for working children, there is still a need for public policies that address the special challenges that working children face when attempting to access basic education. In addition, government agencies need to further develop their capacity to address these issues. Among the challenges is the area of information gathering on exploitive child labor and education, given limited resources to continually conduct statistical surveys. There is also little knowledge about the problem of exploitive child labor in the informal sector, and in such specific activities as domestic service. Furthermore, there is no system for monitoring a child's attendance in school. Finally, there is a lack of collaboration among government agencies, and between government and civil society, on the issue of education for working children. Although various groups exist in the country that are dedicated to promoting education for working children, there is a need for more inclusive efforts on the issue.

Guatemala

In 2000, the Government of Guatemala's National Living Conditions Survey (ENCOVI) reported that 23.6 percent of children ages 5 to 17 years (approximately 947,000 children) in Guatemala were economically active. Children are engaged in work on family farms and in the harvesting of commercial crops such as coffee, sugarcane, and broccoli. Children also work in stone quarries, as vendors on city streets, and, in some cases, become victims of commercial sexual exploitation and trafficking. Approximately half of the working children in the country did not attend school. For those that attend school, many complete much fewer years of instruction than non-working children; working children tend to complete only 1.8 years of schooling, roughly half the average years completed by non-working children.

Working children in Guatemala still face very significant obstacles in accessing basic education. No public/government programs that promote basic education address the special challenges faced by working children. Further, while MINEDUC has collaborated with ILO/IPEC projects at a local level, programs such as PRONADE have not been involved in exploitive child labor issues at the national level. In addition, although traditionally Guatemala had the benefit of school “supervisores” to conduct some monitoring of children's school attendance, reforms meant to decentralize the education system changed their roles, and have had the unintended effect of removing one of the few monitoring mechanisms for school attendance. Teachers in Guatemala are not afforded sufficient training on exploitive child labor and lack incentives for high performance. Accordingly, these teachers have little motivation to be supportive of working children in their classrooms. Finally, although there have been important efforts in Guatemala to engage communities on the issue of education, there have been very few efforts to involve civil society in dialogue on exploitive child labor, and how it relates to education.

Honduras

In 2002, the Government of Honduras' Multiple-Purpose Household Survey reported that 15.4 percent of children ages 5 to 17 years (approximately 356,000 children) in Honduras were working. Children work in sectors such as agriculture, fishing, manufacturing, construction, commerce, domestic service, and mining. Some children are engaged in commercial sexual exploitation and drug trafficking. Of working children, almost 60 percent did not attend school. Among working children who have some education, only an estimated 34 percent complete primary school.

Access to education for working children or children at risk of working is very limited, and resources are not always allocated to the schools or districts where they are most needed. The Ministry of Education has limited information management capabilities, and student attendance in school is reportedly tracked only at the individual school level. Because of this lack of information, planners within the Ministry do not have the data necessary to formulate strategies to promote attendance in particular regions or schools. Furthermore, teacher training is reported to be of low quality, and few teachers are trained on exploitive child labor. The Honduran system also lacks incentives to encourage high quality teacher performance. Teachers are not encouraged to address the issue of exploitive child labor in their communities or to engage working children in their classrooms. In addition, Honduran civil society lacks awareness about the problems created by exploitive child labor and lack of schooling, as well as the capacity to address such issues. Finally, information on the incidence of exploitive child labor, as well as best practices for addressing it, are not widely shared.

Nicaragua

In 2000, a Ministry of Labor Survey on Child Labor estimated that 314,000 or 17.7 percent of children between the ages of 5 to 17 years in Nicaragua worked. Children work in such sectors and occupations as agriculture, fishing, stockbreeding, garbage scavenging, street vending, and domestic service. They also engage in the trafficking of drugs and commercial sexual exploitation. Approximately 50 percent of working children do not attend school.

A significant percentage of Nicaragua's education budget continues to be earmarked to support tertiary, rather than basic, education. There is a need to strengthen the commitment of Nicaraguan society at large—communities, the private sector, teachers, teachers unions, and government agencies—to the importance of primary education for all of the country's children, including working children. In addition, and as with other countries in the region, teachers receive little training on the issue of exploitive child labor, and are provided few incentives for good performance, such as encouraging students to attend, or spending extra time to assist children who combine school and work. Although student attendance is monitored at the national level, there is room for more incentives from schools and the Ministry of Education to encourage school attendance. Finally, after many years of civil conflict, the political tensions that continue to exist in the country have slowed the exchange of information on exploitive child labor and on strategies to promote education for working children.

The Dominican Republic

The Ministry of Labor's National Child Labor Survey, published in 2002, estimates that 18 percent of children ages 5 to 17 years (428,720) are working. Children can be found working in agriculture, services in the informal sector (shoe shiners, street vendors), domestic service, and prostitution. In addition, reports indicate that Haitian children may be found working in the Dominican Republic. There are also reports that some Haitian children have been trafficked to the Dominican Republic, including for purposes of exploitive child labor.

In the Dominican Republic, many gaps and challenges remain that hamper efforts to prevent exploitive child labor through education, and provide access to education for child laborers. These include a highly centralized education administration, lack of school access in rural areas, lack of vocational schools, and a less than adequate system for measuring and monitoring education results. Moreover, lack of official identity papers and documentation are serious barriers to school enrollment and affects thousands of children most vulnerable to exploitive child labor—rural children, and those of Haitian descent. Several programs have been developed to address the problem of lack of documentation, but none has been broadly successful. Haitian children are also likely to face language barriers to education.

Many Dominican teachers lack motivation to improve their teaching style or to comply with school schedules because of low salaries. Teacher strikes for higher pay are frequent. Time in-class and time spent on learning tasks are lower in the Dominican Republic than in most other Latin American countries. Teachers in rural areas may also miss school because of transportation difficulties. In most Dominican classrooms there is a lack of active, participatory, student-centered pedagogy. Also, teachers are not prepared to deal with children with special needs such as those of working children, and children at risk of or engaged in commercial sexual exploitation.

Furthermore, the high levels of overage students relative to grade discourages many children from continuing altogether, and results in permanent desertion and premature entry into labor.

Southern Africa

Botswana

In 2001, the ILO estimated that 13.95 percent of children ages 10 to 14 in Botswana were working. In urban areas, increasing numbers of street children, many of them abandoned or HIV/AIDS orphans, engage in begging, or work in the informal sector and prostitution. In rural areas, young children work as cattle tenders and domestic servants and help their families with subsistence agriculture and household chores. Young girls who are pregnant or who have had children often drop out of school and are sometimes forced to work as domestic servants or prostitutes. Children of migrant workers are often found assisting their parents at the workplace.

Most children who work in the street are from very poor families, live in abject poverty, have low levels of literacy and education, and have parents who are un-or under-employed. These families cannot afford to send their children to school or provide for their basic necessities. Necessity forces these children to beg on the streets and/or to work in order to help provide for themselves and their families. Abandoned children and HIV/AIDS orphans are often homeless and are at even greater risk of working in exploitive and dangerous forms of labor.

Although the government has attempted to provide opportunities for children to obtain primary education, only 50 percent of students who complete their Junior Community School certificate go on to secondary school due to lack of spaces and schools. In addition, there are inadequate vocational education opportunities for children who complete primary school and significant disparities in access to education between urban and rural populations. This leaves a large number of children vulnerable to working in exploitive labor situations.

Significant gaps/needs remain in providing access to quality education for child laborers, including: (1) Limited public awareness and research concerning children's participation in exploitive labor; (2) inadequate harmonization of definitions and laws protecting core labor standards, including exploitive child labor issues, with provisions outlined in international conventions, as well as poor capacity to implement and enforce laws; (3) poor school transportation, infrastructure, and material conditions in rural areas; and (4) lack of vocational, primary and secondary educational opportunities for street children, abandoned children, children-headed households, pregnant girls or teenage mothers, children of migrant workers, HIV/AIDS orphans, and older children.

Lesotho

In 2000, the Government of Lesotho and UNICEF estimated that 29 percent of children ages 5 to 17 were working, though not in the formal sector. Although there is very little information or research on exploitive child labor in Lesotho, a growing number of street children and HIV/AIDS orphans in major cities and towns are thought to be working in the informal sector as prostitutes and street vendors, and in other informal activities such as domestic service. The largest number of children found working in Lesotho are herd boys, some as young as 4, who are found in rural districts such as Mokhotlong, Leribe and Quacha's Neck.

Herding animals is a traditional work activity for boys in Lesotho, begun at a very young age. These boys do not usually have the opportunity to attend school and the work becomes more difficult in the winter when the conditions are much more harsh. Children working in domestic work, primarily girls, work very long hours for little pay. These girls are sometimes subjected to sexual abuse by their employers and most often do not have the opportunity to attend school because they cannot afford it or do not have the time to attend. The majority of street children come from very poor families or are HIV/AIDS orphans, which has left them as heads of household or homeless. Increasingly, they are unable to attend school because they must provide for sick family members, their brothers and sisters, and themselves.

Rural districts still face difficulties in providing free education to children due to the long distances to and from school and inadequate facilities. Moreover, given the increased enrollment due to the incremental introduction of free primary education (in 2004, it will be extended to grade 5), classes are overcrowded and the quality of the teachers is sometimes substandard. Given this situation, children who are older than the average school-going age often lose interest and drop out.

In light of these barriers and gaps, the most immediate needs for improving education opportunities for children working or at-risk of working include: (1) Public awareness and research concerning children's participation in exploitive labor; (2) increasing capacity of the government, labor unions, and NGOs to combat the issues relating to working children; (3) improving primary school opportunities, counseling, and/or the provision of life skills (including vocational or non-formal education) for street children, domestic workers, and HIV/AIDS orphans; (4) improving learning facilities and promoting teacher training; and (5) vocational and skills training opportunities for older children, dropouts, or those who do not otherwise have an opportunity to attend primary or secondary school.

Namibia

In 2001, the ILO estimated that 16.5 percent of children ages 10 to 14 in Namibia were working. Although there are a growing number of street children and HIV/AIDS orphans in major cities and towns, the majority of working children live in rural areas where they work in agriculture, domestic work, and do household chores such as collecting firewood and fetching water. Children from disadvantaged populations (San and Ovahimba peoples), whose parents often work on commercial and communal farms, are also usually working (unofficially and unpaid) in order to supplement the labor of their parents. Young mothers, who have not completed school and find it very difficult to later re-enroll, work as domestic servants and must often allow their children to work for their employers in order to help pay for boarding and food costs.

The Government of Namibia spends almost one third of its annual budget on education. Primary education is compulsory in Namibia and although the Constitution mandates that primary education shall be free, in practice there are numerous fees for such items as uniforms, books, and school improvements. The country has relatively high school enrolment rates. However, a January 2003 report, entitled Educationally Marginalised Children in Namibia, identified 13 groups of educationally marginalized children. This report includes recommendations on how to improve access to education for these groups within the government's poverty reduction strategy, yet little has been done to implement them.

School fees and other barriers to education have provoked some children from poor households to drop out of school and work on the streets in cities and towns. Moreover, children aged 10 or older, who have never enrolled in school cannot enroll in grade one and are not able to enroll in the National Literacy Program of Namibia until they are 15. This leaves such children between the ages of 10 and 15 with virtually no opportunities for education. Children from the San (in the Omaheke, Otjozondjupa, Oshikoto, and Ohangwena regions) and Ovahimba populations (in the Kunene region) lack adequate opportunities for primary, vocational, and non-formal education due to long distances to schools and substandard educational environments.

Given these barriers and gaps to education, the most immediate needs for improving education opportunities are: (1) Increased public awareness and research concerning children's participation in exploitive labor; (2) increased capacity and promotion of coordination between government ministries and programs relating to exploitive child labor and education; (3) improved access to appropriate, attractive, and relevant education (including formal, vocational, and non-formal education) for older children with little or no formal education and children living in remote areas; (4) increasing the number of qualified teachers and reducing overcrowded classrooms, especially in the north; and (5) the provision of educational opportunities, counseling, or provision of life skills for street children, HIV/AIDS orphans, and vulnerable children.

South Africa

In 1999, a child labor survey conducted by the South Africa Statistical Agency estimated that 36 percent of children ages 5 to 17 in South Africa were working. Children are most often found working in the rural agricultural sector on commercial, subsistence, and small farms in the Eastern, Free State, KwaZulu-Natal, Limpopo, Mpumalanga, North West, and Western Cape provinces. These children have sometimes been forced into forms of indentured service on farms, where they work alongside their parents for little or no payment. In the wine industry in the Western and Northern Cape provinces, the practice of “dop” payment (paying adults and children with alcohol for their work) is prevalent, causing devastation to children and families.

In urban areas, there are increasing numbers of street children who beg, work in the informal sector, or are child prostitutes. There is evidence that cases of children trafficked to, from, and within South Africa for purposes of commercial sexual exploitation are on the rise. Street children and child prostitution/trafficking tends to be located in the cities of Johannesburg/Pretoria, Bloemfontein, and Pietermaritzburg, as well as the port towns of Cape Town, Port Elizabeth, East London, and Durban. Children are also involved in domestic service, manufacturing, construction, and retail business.

Although there have been considerable efforts to improve the quality of and access to basic education, children from agricultural regions and deep rural areas of the country still have difficulties accessing quality education due to the long travel distances to school. School fees, uniforms, and costs of materials associated with education still prevent some poor children from attending school. Thirty-five percent of children who enter primary school drop out within 5 years of enrolling, which leaves them vulnerable to entering exploitive labor.

Inequities in the quality of education exist predominately for black students in townships and rural areas. Approximately 80 percent of schools in the country serve black students and although education is no longer segregated, schools that traditionally have served black students remain under funded, have severe infrastructure deficiencies, and have unqualified or under qualified teachers. Another challenge facing children is the closure of “farm schools.” After the change in government in 1994, the South Africa Schools Act mandated that all “farm schools” meet minimum educational standards and be transferred to the government for conversion into public schools. Farmers have instead been closing farm schools rather than turning them over to the government. Although these schools are the most inferior schools in the country, their closure signifies that thousands of children have lost their only opportunity for education.

Despite the attempts by the government to guarantee that all children have access to quality education, approximately 10 percent (1.3 million) of all children of school going age (7 to 15) either do not attend school, do not attend school regularly, or are at significant risk of leaving formal schooling before age 15 or grade 9. The most immediate needs include: (1) Increased public awareness and research concerning children's participation in exploitive labor; (2) improved access to quality basic education in rural and agricultural areas; (3) opportunities for alternative basic education programs (including vocational, technical, and skills training programs) for street children and children in rural and ex-homeland areas; (4) teacher training, especially in rural and ex-homeland areas; and (5) the provision of skills training for teachers, government officials, and NGO stakeholders in identifying and helping children in need (counseling, legal protection, education, etc.).

Swaziland

In 2000, the Government of Swaziland and UNICEF estimated that 11.3 percent of children ages 5 to 14 were working. Children are most often found working beside their parents in commercial and subsistence agricultural (especially in the Eastern region). Young girls often work in domestic service, sometimes facing sexual exploitation by their employers. Boys in rural areas often work as herders. Increasing numbers of children are being orphaned or otherwise forced to the streets (especially in Mbabane and Manzini) and are found begging, working in the informal sector, or in prostitution.

The National Emergency Response Council to HIV/AIDS (NERCHA) implements an assistance program for orphans, which provides food and basic needs, as well as small stipends, care points, and protection services. The emphasis of this program is to keep orphans in their communities in an effort to discourage them from moving to other places where they may be at greater risk of exploitation. Siblings of children who head households are also provided with food so that all children can attend school and do not have to work to pay for food.

Education is neither free nor compulsory in Swaziland. However, primary school enrollment is relatively high despite the school fees and other associated costs that students must pay. Due to the increasing needs of vulnerable children, at the end of 2002, the King of Swaziland committed E16 million (US $2.5 million) to pay school fees for orphaned children. It is envisioned that this initiative will continue until free primary education is introduced.

Children in Swaziland still face barriers to education. The most important needs include: (1) Increased public awareness and research concerning children's participation in exploitive labor; (2) improved school infrastructure and transportation to schools in rural areas; (3) increased awareness of exploitive child labor issues and the importance of education among parents and communities, as well as improved coordination of non-formal and formal education initiatives; (4) the provision or elimination of school fees, materials, uniform or food in order to improve children's access to education; and (5) opportunities in both urban and rural areas for older and vulnerable children to receive non-formal, vocational, and or technical education, as well as counseling services.

For additional information on exploitive child labor in Central America and the Dominican Republic, as well as Southern Africa, applicants are strongly encouraged to refer to The Department of Labor's 2002 Findings on the Worst Forms of Child Labor available at http://www.dol.gov/ILAB/media/reports/iclp/tda2002/overview.htm.

[FR Doc. 04-10306 Filed 5-5-04; 8:45 am]

BILLING CODE 4510-28-P